DEPARTMENT OF ENERGY

Federal Energy Regulatory Commission

Combined Notice of Filings

Take notice that the Commission has received the following Natural Gas Pipeline Rate and Refund Report filings:

Filings Instituting Proceedings

Docket Numbers: RP17-178-000.

Applicants: Discovery Gas Transmission LLC.

Description: § 4(d) Rate Filing: 2017 HMRE Surcharge Filing to be effective 1/1/2017.

Filed Date: 11/15/16.

Accession Number: 20161115-5107.

Comments Due: 5 p.m. ET 11/28/16.

Docket Numbers: RP17-179-000.

Applicants: Northwest Pipeline LLC.

Description: § 4(d) Rate Filing: Non-Conforming Contracts—Citadel (3 Releases from WPX) to be effective 12/16/2016.

Filed Date: 11/15/16.

Accession Number: 20161115-5112.

Comments Due: 5 p.m. ET 11/28/16.

Docket Numbers: RP17-180-000.

Applicants: Algonquin Gas Transmission, LLC.

Description: § 4(d) Rate Filing: Negotiated Rate Agreement—W. Roxbury Lateral Boston Gas K510807 to be effective 12/1/2016.

Filed Date: 11/15/16.

Accession Number: 20161115-5145.

Comments Due: 5 p.m. ET 11/28/16.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-65-006.

Applicants: Gulf South Pipeline Company, LP.

Description: Compliance filing Rate Case Settlement Compliance Filing to be effective 12/1/2016.

Filed Date: 11/15/16.

Accession Number: 20161115-5034.

Comments Due: 5 p.m. ET 11/28/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated November 16, 2016.
Nathaniel J. Davis, Sr.,
Deputy Secretary.

[FR Doc. 2016-28192 Filed 11-22-16; 8:45 am]

BILLING CODE 6717-01-P